DEPARTMENT OF TRANSPORTATION

Federal Aviation Administration

14 CFR Part 39

[Docket No. FAA-2017-0562; Directorate Identifier 2017-NM-027-AD]

RIN 2120-AA64

Airworthiness Directives; Bombardier, Inc., Airplanes

AGENCY: Federal Aviation Administration (FAA), DOT.

ACTION: Notice of proposed rulemaking (NPRM).

SUMMARY: We propose to adopt a new airworthiness directive (AD) for certain Bombardier, Inc., Model CL-600-2C10 (Regional Jet Series 700, 701, & 702), Model CL-600-2D15 (Regional Jet Series 705), Model CL-600-2D24 (Regional Jet Series 900), and Model CL-600-2E25 (Regional Jet Series 1000) airplanes. This proposed AD was prompted by a report that a number of rubber bull gear (RBG) wheels installed in the horizontal stabilizer trim actuator (HSTA) were manufactured using an incorrect material specification. This proposed AD would require replacement of the affected RBG wheels. We are proposing this AD to address the unsafe condition on these products.

DATES: We must receive comments on this proposed AD by August 7, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0562; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Branch, ANE-171, FAA, New York Aircraft Certification Office (ACO), 1600 Stewart Avenue, Suite 410, Westbury, NY 11590; telephone 516-228-7329; fax 516-794-5531.

SUPPLEMENTARY INFORMATION:

Comments Invited

We invite you to send any written relevant data, views, or arguments about this proposed AD. Send your comments to an address listed under the ADDRESSES section. Include “Docket No. FAA-2017-0562; Directorate Identifier 2017-NM-027-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2016-22, dated June 24, 2016 (referred to after this as the Mandatory Continuing Airworthiness Information, or “the MCAI”), to correct an unsafe condition for certain Bombardier, Inc., Model CL-600-2C10 (Regional Jet Series 700, 701, & 702), Model CL-600-2D15 (Regional Jet Series 705), Model CL-600-2D24 (Regional Jet Series 900), and Model CL-600-2E25 (Regional Jet Series 1000) airplanes. The MCAI states:

An inspection by the vendor revealed that a number of Rubber Bull Gear (RBG) Wheels installed in the Horizontal Stabilizer Trim Actuator (HSTA) of the CL-600-2C10, CL-600-2D15, CL-600-2D24 and CL-600-2E25 aeroplanes were manufactured from the incorrect material specification. The use of the incorrect material specification has a direct impact on the RBG Wheels life limit. The teeth of these non-conforming RBG Wheels may experience premature wear out and if not corrected, this condition could result in difficulties in maneuvering the aeroplane.

This [Canadian] AD mandates replacement of the RBGs whose wheels have been made using an incorrect material specification.

You may examine the MCAI in the AD docket on the Internet at http://www.regulations.gov by searching for and locating Docket No. FAA-2017-0562.

Related Service Information Under 1 CFR Part 51

We reviewed Bombardier Service Bulletin 670BA-27-072, Revision A, dated October 26, 2016. This service information describes procedures for identification of affected HSTAs, and replacement if necessary. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 544 airplanes of U.S. registry.

We estimate the following costs to comply with this proposed AD:

Estimated Costs
Action | Labor cost | Parts cost | Cost per product | Cost on U.S. operators
Inspection and Replacement | Up to 20 work-hours × $85 per hour = $1700 | (¹) | Up to $1700 | Up to $924,800.
¹ We have received no definitive data that would enable us to provide cost estimates for the parts cost specified in this proposed AD.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2017-0562; Directorate Identifier 2017-NM-027-AD.

(a) Comments Due Date

We must receive comments by August 7, 2017.

(b) Affected ADs

None.

(c) Applicability

This AD applies to the Bombardier, Inc., airplanes identified in paragraphs (c)(1) through (c)(4) of this AD, certificated in any category, equipped with horizontal stabilizer trim actuator (HSTA) part number 8489-7 or 8489-7R.

(1) Model CL-600-2C10 (Regional Jet Series 700, 701, & 702) airplanes.

(2) Model CL-600-2D15 (Regional Jet Series 705) airplanes.

(3) Model CL-600-2D24 (Regional Jet Series 900) airplanes.

(4) Model CL-600-2E25 (Regional Jet Series 1000) airplanes.

(d) Subject

Air Transport Association (ATA) of America Code 27, Flight controls.

(e) Reason

This AD was prompted by a report that a number of rubber bull gear (RBG) wheels installed in the HSTA were manufactured using an incorrect material specification. We are issuing this AD to prevent premature wear-out of the teeth of the RBG wheels, which could cause difficulties in maneuvering the airplane.

(f) Compliance

Comply with this AD within the compliance times specified, unless already done.

(g) Serial Number Verification

Within 600 flight hours after the effective date of this AD, inspect to determine whether the serial number (S/N) of the installed HSTA is listed in paragraph 1.A, “Effectivity,” of Bombardier Service Bulletin 670BA-27-072, Revision A, dated October 26, 2016. If the S/N of the installed HSTA is not listed in paragraph 1.A, “Effectivity,” of Bombardier Service Bulletin 670BA-27-072, Revision A, dated October 26, 2016, no further action is required by this AD, except as required by paragraph (j) of this AD. A review of airplane maintenance records is acceptable in lieu of this inspection if the part number of the HSTA can be conclusively determined from that review.

(h) Replacement

For any HSTA with a S/N listed in paragraph 1.A, “Effectivity,” of Bombardier Service Bulletin 670BA-27-072, Revision A, dated October 26, 2016: Within the compliance times specified in figure 1 to paragraph (h) of this AD, as applicable, replace the affected HSTA, in accordance with the Accomplishment Instructions of Bombardier Service Bulletin 670BA-27-072, Revision A, dated October 26, 2016.

Figure 1 to Paragraph (h) of This AD—Compliance Time Criteria
For HSTAs with S/N suffix A or with no suffix, that have accumulated 10,000 flight cycles (FC) or fewer | Within 3600 FC accumulated on the unit from the effective date of this AD.
For HSTAs with S/N suffix A or with no suffix, that have accumulated more than 10,000 FC | Within 1800 FC accumulated on the unit from the effective date of this AD.
For HSTAs with S/N suffix B or AB, that have accumulated 10,000 FC or fewer since the incorporation of Bombardier Service Bulletin 670BA-27-058 | Within 3600 FC accumulated on the unit from the effective date of this AD.
For HSTAs with S/N suffix B or AB, that have accumulated more than 10,000 FC since the incorporation of Bombardier Service Bulletin 670BA-27-058 | Within 1800 FC accumulated on the unit from the effective date of this AD.

(i) Credit for Previous Actions

This paragraph provides credit for actions required by paragraphs (g) and (h) of this AD, if those actions were performed before the effective date of this AD using Bombardier Service Bulletin 670BA-27-072, dated April 26, 2016.

(j) Parts Installation Limitation

As of the effective date of this AD, no person may install, on any airplane, an HSTA having part number 8489-7 or 8489-7R, with a S/N listed in paragraph 1.A, “Effectivity,” of Bombardier Service Bulletin 670BA-27-072, Revision A, dated October 26, 2016, unless the S/N has a suffix “C” marked on the identification plate adjacent to the S/N.

(k) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the manager of the ACO, send it to the Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(l) Related Information

(1) Refer to Mandatory Continuing Airworthiness Information (MCAI) Canadian Airworthiness Directive CF-2016-22, dated June 24, 2016, for related information. This MCAI may be found in the AD docket on the Internet at http://www.regulations.gov by searching for and locating Docket No. FAA-2017-0562.

(2) For more information about this AD, contact Aziz Ahmed, Aerospace Engineer, Airframe and Mechanical Systems Branch, ANE-171, FAA, New York ACO, 1600 Stewart Avenue, Suite 410, Westbury, NY 11590; telephone 516-228-7329; fax 516-794-5531.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com. You may view this service information at the FAA, Transport Airplane Directorate, 1601 Lind Avenue SW., Renton, WA. For information on the availability of this material at the FAA, call 425-227-1221.

Issued in Renton, Washington, on June 12, 2017.
Dionne Palermo,
Acting Manager, Transport Airplane Directorate, Aircraft Certification Service.

[FR Doc. 2017-12798 Filed 6-20-17; 8:45 am]

BILLING CODE 4910-13-P